SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: June 1-July 31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (e) and (f) for the time period specified above.

Approvals By Rule—Issued Under 18 CFR 806.22(e):

1. Energy Center Paxton LLC; ABR-202506001; Harrisburg City, Dauphin County, Pa.; Consumptive Use of Up to 0.0660 mgd; Approval Date: June 2, 2025.

2. Dart Container Corporation of Pennsylvania (Lancaster); Lancaster Plant; ABR-202506003; East Lampeter Township, Lancaster County, Pa.; Consumptive Use of Up to 0.0990 mgd; Approval Date: June 4, 2025.

Approvals By Rule—Issued Under 18 CFR 806.22(f):

1. JKLM Energy, LLC; Pad ID: Belz 2001; ABR-202506002; Tioga Township, Tioga County, Pa.; Consumptive Use of Up to 3.0000 mgd; Approval Date: June 2, 2025.

2. RENEWAL—Expand Operating LLC; Pad ID: Reeve; ABR-20100403.R3; Herrick Township, Bradford County, Pa.; Consumptive Use of Up to 7.5000 mgd; Approval Date: June 3, 2025.

3. RENEWAL—Expand Operating LLC; Pad ID: Alton; ABR-20100411.R3; Ulster Township, Bradford County, Pa.; Consumptive Use of Up to 7.5000 mgd; Approval Date: June 6, 2025.

4. RENEWAL—Expand Operating LLC; Pad ID: Holtan; ABR-20100446.R3; Auburn Township, Susquehanna County, Pa.; Consumptive Use of Up to 7.5000 mgd; Approval Date: June 6, 2025.

5. RENEWAL—Expand Operating LLC; Pad ID: Nickolyn; ABR-20100436.R3; Auburn Township, Susquehanna County, Pa.; Consumptive Use of Up to 7.5000 mgd; Approval Date: June 6, 2025.

6. RENEWAL—Expand Operating LLC; Pad ID: Blanche Poulsen; ABR-202005002.R1; Auburn Township, Susquehanna County, Pa.; Consumptive Use of Up to 7.5000 mgd; Approval Date: June 10, 2025.

7. RENEWAL—Blackhill Energy LLC; Pad ID: HARKNESS 2H; ABR-20091220.R3; Springfield Township, Bradford County, Pa.; Consumptive Use of Up to 1.9990 mgd; Approval Date: June 20, 2025.

8. RENEWAL—Expand Operating LLC; Pad ID: Way; ABR-20100448.R3; Wyalusing Township, Bradford County, Pa.; Consumptive Use of Up to 7.5000 mgd; Approval Date: June 20, 2025.

9. RENEWAL—S.T.L. Resources, LLC; Pad ID: State 815 Pad; ABR-202005004.R1; Elk Township, Tioga County, Pa.; Consumptive Use of Up to 4.9900 mgd; Approval Date: June 20, 2025.

10. Pennsylvania General Energy Company, L.L.C.; Pad ID: Hunters Lake Kutz Well Pad; ABR-202506004; Shrewsbury Township, Lycoming County, Pa.; Consumptive Use of Up to 5.0000 mgd; Approval Date: June 25, 2025.

11. RENEWAL—EXCO Resources (PA), LLC; Pad ID: Warner Drilling Pad #1; ABR-20100451.R3; Franklin Township, Lycoming County, Pa.; Consumptive Use of Up to 2.0000 mgd; Approval Date: June 25, 2025.

12. RENEWAL—Coterra Energy Inc.; Pad ID: HousenickJ P1; ABR-201505004.R2; Rush Township, Susquehanna County, Pa.; Consumptive Use of Up to 5.0000 mgd; Approval Date: June 28, 2025.

13. RENEWAL—Expand Operating LLC; Pad ID: Coates; ABR-20100509.R3; Standing Stone Township, Bradford County, Pa.; Consumptive Use of Up to 7.5000 mgd; Approval Date: June 28, 2025.

14. RENEWAL—Expand Operating LLC; Pad ID: GU-Y Loomis Pad; ABR-20100504.R3; Rush Township, Susquehanna County, Pa.; Consumptive Use of Up to 7.5000 mgd; Approval Date: June 28, 2025.

15. RENEWAL—Expand Operating LLC; Pad ID: Kerr Drilling Pad #1; ABR-20100506.R3; Lathrop Township, Susquehanna County, Pa.; Consumptive Use of Up to 7.5000 mgd; Approval Date: June 28, 2025.

16. RENEWAL—Expand Operating LLC; Pad ID: NR-05 BAC Realty; ABR-201504007.R2; New Milford Township, Susquehanna County, Pa.; Consumptive Use of Up to 7.5000 mgd; Approval Date: June 28, 2025.

17. RENEWAL—Expand Operating LLC; Pad ID: NR-25 NOWICKI; ABR-201504006.R2; Oakland Township, Susquehanna County, Pa.; Consumptive Use of Up to 7.5000 mgd; Approval Date: June 28, 2025.

18. RENEWAL—Repsol Oil & Gas USA, LLC; Pad ID: Chicken Hawk; ABR-20100434.R3; Sullivan Township, Tioga County, Pa.; Consumptive Use of Up to 6.0000 mgd; Approval Date: June 28, 2025.

19. RENEWAL—Repsol Oil & Gas USA, LLC; Pad ID: Red Run Mountain 736; ABR-20100502.R3; McIntyre Township, Lycoming County, Pa.; Consumptive Use of Up to 6.0000 mgd; Approval Date: June 28, 2025.

20. RENEWAL—Repsol Oil & Gas USA, LLC; Pad ID: STORCH (03 035) D; ABR-20100445.R3; Wells Township, Bradford County, Pa.; Consumptive Use of Up to 6.0000 mgd; Approval Date: June 28, 2025.

21. RENEWAL—Coterra Energy Inc.; Pad ID: CarsonJ P1; ABR-20100520.R3; Springville Township, Susquehanna County, Pa.; Consumptive Use of Up to 5.0000 mgd; Approval Date: June 30, 2025.

22. RENEWAL—Coterra Energy Inc.; Pad ID: WarrinerR P2; ABR-20100518.R3; Dimock Township, Susquehanna County, Pa.; Consumptive Use of Up to 5.0000 mgd; Approval Date: June 30, 2025.

23. RENEWAL—Expand Operating LLC; Pad ID: McConnell; ABR-20100525.R3; Overton Township, Bradford County, Pa.; Consumptive Use of Up to 7.5000 mgd; Approval Date: June 30, 2025.

24. RENEWAL—Seneca Resources Company, LLC; Pad ID: Gamble Pad P; ABR-201506005.R2; Hepburn Township, Lycoming County, Pa.; Consumptive Use of Up to 4.0000 mgd; Approval Date: June 30, 2025.

25. RENEWAL—Seneca Resources Company, LLC; Pad ID: Walker 438; ABR-20100516.R3; Shippen Township, Tioga County, Pa.; Consumptive Use of Up to 4.0000 mgd; Approval Date: June 30, 2025.

26. RENEWAL—EQT ARO LLC; Pad ID: Texas Blockhouse F&G B; ABR-20100207.R3; Pine Township, Lycoming County, Pa.; Consumptive Use of Up to 6.0000 mgd; Approval Date: July 26, 2025.

27. RENEWAL—Expand Operating LLC; Pad ID: Akita NEW; ABR-20100689.R3; Smithfield Township, Bradford County, Pa.; Consumptive Use of Up to 7.5000 mgd; Approval Date: July 26, 2025.

28. RENEWAL—Expand Operating LLC; Pad ID: Allen; ABR-20100606.R3; Wysox Township, Bradford County, Pa.; Consumptive Use of Up to 7.5000 mgd; Approval Date: July 26, 2025.

29. RENEWAL—Expand Operating LLC; Pad ID: Brackman; ABR-20100420.R3; Leroy Township, Bradford County, Pa.; Consumptive Use of Up to 7.5000 mgd; Approval Date: July 26, 2025.

30. RENEWAL—Expand Operating LLC; Pad ID: Cerca; ABR-20100538.R3; Wyalusing Township, Bradford County, Pa.; Consumptive Use of Up to 7.5000 mgd; Approval Date: July 26, 2025.

31. RENEWAL—Expand Operating LLC; Pad ID: Feusner New; ABR-20100558.R3; Litchfield Township, Bradford County, Pa.; Consumptive Use of Up to 7.5000 mgd; Approval Date: July 26, 2025.

32. RENEWAL—Expand Operating LLC; Pad ID: Finnerty; ABR-20100602.R3; West Burlington Township, Bradford County, Pa.; Consumptive Use of Up to 7.5000 mgd; Approval Date: July 26, 2025.

33. RENEWAL—Expand Operating LLC; Pad ID: Henry; ABR-20100423.R3; Albany Township, Bradford County, Pa.; Consumptive Use of Up to 7.5000 mgd; Approval Date: July 26, 2025.

34. RENEWAL—Expand Operating LLC; Pad ID: Hilltop NEW; ABR-201006102.R3; Jessup Township, Susquehanna County, Pa.; Consumptive Use of Up to 7.5000 mgd; Approval Date: July 26, 2025.

35. RENEWAL—Expand Operating LLC; Pad ID: Lillie-NEW; ABR-201006104.R3; Herrick Township, Bradford County, Pa.; Consumptive Use of Up to 7.5000 mgd; Approval Date: July 26, 2025.

36. RENEWAL—Expand Operating LLC; Pad ID: Madden; ABR-20100536.R3; Asylum Township, Bradford County, Pa.; Consumptive Use of Up to 7.5000 mgd; Approval Date: July 26, 2025.

37. RENEWAL—Expand Operating LLC; Pad ID: Rich; ABR-20100539.R3; Troy Township, Bradford County, Pa.; Consumptive Use of Up to 7.5000 mgd; Approval Date: July 26, 2025.

38. RENEWAL—Expand Operating LLC; Pad ID: RU-42-KROPFF-PAD; ABR-201410002.R2; Jackson Township, Susquehanna County, Pa.; Consumptive Use of Up to 7.5000 mgd; Approval Date: July 26, 2025.

39. RENEWAL—Expand Operating LLC; Pad ID: Severcool Drilling Pad #1; ABR-20100547.R3; Forkston Township, Wyoming County, Pa.; Consumptive Use of Up to 7.5000 mgd; Approval Date: July 26, 2025.

40. RENEWAL—Expand Operating LLC; Pad ID: Squier Drilling Pad #1; ABR-201007008.R3; Springville Township, Susquehanna County, Pa.; Consumptive Use of Up to 7.5000 mgd; Approval Date: July 26, 2025.

41. RENEWAL—Expand Operating LLC; Pad ID: Treat; ABR-20100527.R3; Rome Township, Bradford County, Pa.; Consumptive Use of Up to 7.5000 mgd; Approval Date: July 26, 2025.

42. RENEWAL—Repsol Oil & Gas USA, LLC; Pad ID: Greenwood Hunting Lodge 427; ABR-20100532.R3; McIntyre Township, Lycoming County, Pa.; Consumptive Use of Up to 6.0000 mgd; Approval Date: July 26, 2025.

43. RENEWAL—Seneca Resources Company, LLC; Pad ID: PHC Pad Q; ABR-20100551.R3; Lawrence Township, Clearfield County, Pa.; Consumptive Use of Up to 4.0000 mgd; Approval Date: July 26, 2025.

44. RENEWAL—Seneca Resources Company, LLC; Pad ID: Vandergrift 290; ABR-20100442.R3; Charleston Township, Tioga County, Pa.; Consumptive Use of Up to 4.0000 mgd; Approval Date: July 26, 2025.

45. RENEWAL—Seneca Resources Company, LLC; Pad ID: Warren Pad B; ABR-20100621.R3; Richmond Township, Tioga County, Pa.; Consumptive Use of Up to 4.0000 mgd; Approval Date: July 26, 2025.

46. Sabre Energy Development LLC; Pad ID: Bering Pad; ABR-202507001; Davidson Township, Sullivan County, Pa.; Consumptive Use of Up to 3.0000 mgd; Approval Date: July 26, 2025.

47. RENEWAL—Expand Operating LLC; Pad ID: Alderfer NEW; ABR-20100671.R3; Litchfield Township, Bradford County, Pa.; Consumptive Use of Up to 7.5000 mgd; Approval Date: July 30, 2025.

48. RENEWAL—Expand Operating LLC; Pad ID: Black Creek; ABR-20100686.R3; Forks Township, Sullivan County, Pa.; Consumptive Use of Up to 7.5000 mgd; Approval Date: July 30, 2025.

49. RENEWAL—Expand Operating LLC; Pad ID: Covington; ABR-201007123.R3; Sheshequin Township, Bradford County, Pa.; Consumptive Use of Up to 7.5000 mgd; Approval Date: July 30, 2025.

50. RENEWAL—Expand Operating LLC; Pad ID: Fred; ABR-20100524.R3; Leroy Township, Bradford County, Pa.; Consumptive Use of Up to 7.5000 mgd; Approval Date: July 30, 2025.

51. RENEWAL—Expand Operating LLC; Pad ID: Hickory Row; ABR-202007002.R1; Wyalusing Township, Bradford County, Pa.; Consumptive Use of Up to 7.5000 mgd; Approval Date: July 30, 2025.

52. RENEWAL—Expand Operating LLC; Pad ID: Delima; ABR-201007078.R3; Albany Township, Bradford County, Pa.; Consumptive Use of Up to 7.5000 mgd; Approval Date: July 31, 2025.

53. RENEWAL—Expand Operating LLC; Pad ID: Moose; ABR-201007019.R3; Wysox Township, Bradford County, Pa.; Consumptive Use of Up to 7.5000 mgd; Approval Date: July 31, 2025.

54. RENEWAL—Expand Operating LLC; Pad ID: Rowe; ABR-201007101.R3; Rome Township, Bradford County, Pa.; Consumptive Use of Up to 7.5000 mgd; Approval Date: July 31, 2025.

55. RENEWAL—Expand Operating LLC; Pad ID: Waldeisen-Ladd Drilling Pad; ABR-20100699.R3; Fox Township, Sullivan County, Pa.; Consumptive Use of Up to 7.5000 mgd; Approval Date: July 31, 2025.

56. RENEWAL—Pennsylvania General Energy Company, L.L.C.; Pad ID: COP TRACT 724—PAD A; ABR-20091118.R3; Gamble Township, Lycoming County, Pa.; Consumptive Use of Up to 2.0000 mgd; Approval Date: July 31, 2025.

57. RENEWAL—Repsol Oil & Gas USA, LLC; Pad ID: WILBER (03 065) W; ABR-20100552.R3; Wells Township, Bradford County, Pa.; Consumptive Use of Up to 6.0000 mgd; Approval Date: July 31, 2025.

Authority: Public Law 91-575, 84 Stat. 1509 et seq., 18 CFR parts 806 and 808.

Dated: August 11, 2025.
Jason E. Oyler,
General Counsel and Secretary to the Commission.

[FR Doc. 2025-15417 Filed 8-13-25; 8:45 am]

BILLING CODE 7040-01-P